DEPARTMENT OF HEALTH AND HUMAN SERVICES

Centers for Disease Control and Prevention

[60Day-01-10]

Proposed Data Collections Submitted for Public Comment and Recommendations

In compliance with the requirement of section 3506 (c)(2)(A) of the Paperwork Reduction Act of 1995, the Center for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 60 days.

Proposed Project

National Childhood Blood Lead Surveillance System—Renewal—(OMB No. 0920-0337), National Center for Environmental Health (NCEH), Centers for Disease Control and Prevention (CDC). In 1992, the Centers for Disease Control and Prevention began the National Childhood Lead Surveillance Program at the National Center for Environmental Health (NCEH). The goals of the childhood lead surveillance program are to (1) establish childhood lead surveillance systems at the state and national levels; (2) use surveillance data to estimate the extent of elevated blood-lead levels among children; (3) assess the follow-up of children with elevated blood-lead levels; (4) examine potential sources of lead exposure; and (5) help allocate resources for lead poisoning prevention activities. State surveillance systems are based on reports of blood-lead tests from laboratories. Ideally laboratories report results of all lead tests, not just elevated values, to the state health department, but each state determines the reporting level for blood lead tests. In addition to blood lead test results, state child-specific surveillance databases contain follow-up data on children with elevated blood-lead levels including data on medical treatment, environmental investigations, and potential sources of lead exposure. Surveillance data for the national database are extracted from the state child-specific databases and transferred to CDC.

OMB approval for this package will expire on 31 March 2001. This request is for a 3-year renewal with a change in the burden hours. There is no cost to respondents.

Type of respondents | No. of respondents | Frequency of responses | Avg. burden/response in hours | Total burden hours
State Health Departments:
a) annual report | 28 | 1 | 10.0 | 280
b) quarterly report | 40 | 4 | 2.0 | 320
Total |  |  |  | 600

Date: December 15, 2000.
Nancy Cheal,
Acting Associate Direct for Policy Planning, and Evaluation, Centers for Disease Control and Prevention (CDC).

[FR Doc. 00-32544 Filed 12-20-00; 8:45 am]

BILLING CODE 4163-18-P